FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than March 8, 2001.

A. Federal Reserve Bank of Richmond (A. Linwood Gill, III, Vice President) 701 East Byrd Street, Richmond, Virginia 23261-4528:

1. BB&T Corporation, Winston-Salem, North Carolina; to merge with Century South Banks, Inc., Alpharetta, Georgia, and Independent Bancorp, Inc., Oxford, Alabama, and thereby indirectly acquire Century South Bank of Alabama, Oxford, Alabama; Century South Bank of Central Georgia, National Association, Macon, Georgia; Century South Bank of Dahlonega, Dahlonega, Georgia; Century South Bank of Danielsville, Danielsville, Georgia; Century South Bank of Dawsonville, Dawsonville, Georgia; Century South Bank of Ellijay, Ellijay, Georgia; Century South Bank of Fannin County, National Association, Blue Ridge, Georgia; Century South Bank of Lavonia, Lavonia, Georgia; Century South Bank of Northeast Georgia, National Association; Gainesville, Georgia; Century South Bank of Polk County, Copperhill, Tennessee; and Century South Bank of the Coastal Region, National Association, Savannah, Georgia.

In connection with this application, Applicant also has applied to acquire HBI Acquisition Corp., Waynesboro, North Carolina, and thereby indirectly acquire Century South Bank of the Carolinas, FSB, Waynesville, North Carolina, and thereby engage in operating a savings association, pursuant to § 225.28(b)(4)(ii) of Regulation Y.

B. Federal Reserve Bank of Minneapolis (JoAnne F. Lewellen, Assistant Vice President), 90 Hennepin Avenue, Minneapolis, Minnesota 55480-0291:

1. Native American Bancorporation, Co., Denver, Colorado; to become a bank holding company by acquiring 100 percent of the voting shares of Blackfeet National Bank, Browning, Montana.

C. Federal Reserve Bank of Kansas City (D. Michael Manies, Assistant Vice President), 925 Grand Avenue, Kansas City, Missouri 64198-0001:

1. American State Bancshares, Inc., Great Bend, Kansas; to become a bank holding company by acquiring 100 percent of the voting shares of American State Bank & Trust Company, NA, Great Bend, Kansas.

Board of Governors of the Federal Reserve System, February 6, 2001.
Robert deV. Frierson,
Associate Secretary of the Board.

[FR Doc. 01-3393 Filed 2-8-01; 8:45 am]

BILLING CODE 6210-01-U